ENVIRONMENTAL PROTECTION AGENCY

[CERCLA-04-2020-2504; FRL 10020-84-Region 4]

JCC Environmental Superfund Site Picayune, Mississippi; Notice of Settlement

AGENCY: Environmental Protection Agency (EPA)

ACTION: Notice of settlement.

SUMMARY: Under the Comprehensive Environmental Response, Compensation and Liability Act (CERCLA), the United States Environmental Protection Agency has entered into an Administrative Settlement Agreement and Order on Consent with multiple parties concerning the JCC Environmental Superfund Site located in Picayune, Mississippi. The settlement addresses recovery of CERCLA costs for a cleanup action performed by the EPA at the Site.

DATES: The Agency will consider public comments on the settlement until May 10, 2021. The Agency will consider all comments received and may modify or withdraw its consent to the proposed settlement if comments received disclose facts or considerations which indicate that the proposed settlement is inappropriate, improper, or inadequate.

ADDRESSES: Copies of the settlement are available from the Agency by contacting Ms. Paula V. Painter, Program Analyst, using the contact information provided in this notice. Comments may also be submitted by referencing the Site's name through one of the following methods:

Internet: https://www.epa.gov/aboutepa/about-epa-region-4-southeast#r4-public-notices.

Email: Painter.Paula@epa.gov.

FOR FURTHER INFORMATION CONTACT: Paula V. Painter at 404/562-8887.

Maurice Horsey,
Chief, Enforcement Branch, Superfund & Emergency Management Division.

[FR Doc. 2021-07330 Filed 4-8-21; 8:45 am]

BILLING CODE 6560-50-P